DEPARTMENT OF COMMERCE

National Oceanic and Atmospheric Administration

[I.D. 111005E]

Pacific Fishery Management Council; Model Evaluation Workgroup

AGENCY: National Marine Fisheries Service (NMFS), National Oceanic and Atmospheric Administration (NOAA), Commerce.

ACTION: Notice of public meeting.

SUMMARY: The Pacific Fishery Management Council's (Council) Model Evaluation Workgroup (MEW) will hold a work session, which is open to the public.

DATES: The work session will be held Monday, December 5, 2005, from 9 a.m. to 4 p.m.

ADDRESSES: The work session will be held at the U.S. Fish and Wildlife Service, 1121 Cardinal Court, Suite 100, Vancouver, WA 98683 Telephone: 360-604-2500.

Council address: Pacific Fishery Management Council, 7700 NE Ambassador Place, Suite 200, Portland, OR 97220-1384.

FOR FURTHER INFORMATION CONTACT: Mr. Chuck Tracy, Salmon Management Staff Officer, Pacific Fishery Management Council, 503-820-2280.

SUPPLEMENTARY INFORMATION: The purpose of the work session is to further develop documentation for the Chinook and Coho Fishery Regulation Assessment Models.

Although nonemergency issues not contained in the meeting agendas may come before the MEW for discussion, those issues may not be the subject of formal action during these meetings. Action will be restricted to those issues specifically listed in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to Ms. Carolyn Porter at 503-820z6-2280 at least 5 days prior to the meeting date.

Dated: November 10, 2005.
Tracey Thompson,
Acting Director, Office of Sustainable Fisheries, National Marine Fisheries Service.

[FR Doc. E5-6313 Filed 11-15-05; 8:45 am]

BILLING CODE 3510-22-S